FEDERAL COMMUNICATIONS COMMISSION

47 CFR Part 73

[DA 01-1271, MM Docket No. 01-53, RM-10040]

Television Broadcast Service; Galesburg, IL

AGENCY: Federal Communications Commission.

ACTION: Final rule.

SUMMARY: The Commission, at the request of Northwest Television, Inc., substitutes TV channel 53 for TV channel 67 at Galesburg, Illinois. See 66 FR 12922, March 1, 2001. TV channel 53 can be allotted to Galesburg with a zero offset in compliance with the principle community coverage requirements of Section 73.610 and with the criteria set forth in the Commission's Public Notice released on November 22, 1999, DA 99-2605. The coordinates for channel 53 at Galesburg are (41-18-45 N and 90-22-45 W.

With this action, this proceeding is terminated.

DATES: Effective July 9, 2001.

FOR FURTHER INFORMATION CONTACT: Pam Blumenthal, Mass Media Bureau, (202) 418-1600.

SUPPLEMENTARY INFORMATION: This is a synopsis of the Commission's Report and Order, MM Docket No. 01-53, adopted May 24, 2001, and released May 25, 2001. The full text of this Commission decision is available for inspection and copying during normal business hours in the FCC Reference Center 445 12th Street, SW., Washington, DC. The complete text of this decision may also be purchased from the Commission's copy contractor, International Transcription Services, Inc., (202) 857-3800, 1231 20th Street, NW., Washington, DC 20036.

List of Subjects in 47 CFR Part 73

Television broadcasting.

Part 73 of Title 47 of the Code of Federal Regulations is amended as follows:

PART 73—[AMENDED]

1. The authority citation for Part 73 continues to read as follows:

Authority: 47 U.S.C. 154, 303, 334, 336.

§ 73.606 [Amended]

2. Section 73.606(b), the Table of Television Allotments under Illinois, is amended by removing TV channel 67 and adding TV channel 53 at Galesburg.

Federal Communications Commission.
Barbara A. Kreisman,
Chief, Video Services Division, Mass Media Bureau.

[FR Doc. 01-13713 Filed 5-31-01; 8:45 am]

BILLING CODE 6712-01-U